DEPARTMENT OF VETERANS AFFAIRS

[OMB Control No. 2900-0708]

Evidence for Transfer of Entitlement of Education Benefits; Correction

AGENCY: Veterans Benefits Administration, Department of Veterans Affairs.

ACTION: Notice; correction.

SUMMARY: The Department of Veterans Affairs (VA) published a collection of information notice in a Federal Register on November 4, 2010, that contained an error. The notice incorrectly stated that servicemembers on active duty may request to designate up to a maximum of 18 months of their educational assistance entitlement to their spouse, one or more of their children or a combination of the spouse and children. This document corrects the error to remove “up to a maximum of 18 months of”.

FOR FURTHER INFORMATION CONTACT: Denise McLamb, Enterprise Records Service (005R1B), Department of Veterans Affairs, 810 Vermont Avenue, NW., Washington, DC 20420, at 202-461-7485.

Correction

In FR Doc. 2010-27814, published on November 4, 2010, at 75 FR 213, make the following correction. On page 68035, in the third column, under abstract, first sentence, remove up to a maximum of 18 months of.

Dated: November 8, 2010.
Denise McLamb,
Program Analyst, Enterprise Records Service.

[FR Doc. 2010-28448 Filed 11-10-10; 8:45 am]

BILLING CODE 8320-01-P